DEPARTMENT OF THE TREASURY

Submission for OMB Review; Comment Request

July 23, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before August 28, 2009 to be assured of consideration.

Financial Management Service (FMS)

OMB Number: 1510-0008.

Type of Review: Extension.

Title: Pools and Associations—Annual Letter.

Description: Information collected determines acceptable percent for each pool and association Treasury Certified companies are given credit for on Treasury Schedule F for authorized ceded reinsurance in arriving at each insurance company's underwritting limit.

Respondents: Businesses or other for-profits.

Estimated Total Burden Hours: 126 hours.

Clearance Officer: Wesley Powe (202) 874-7662, Financial Management Service, Room 135, 3700 East West Highway, Hyattsville, MD 20782.

OMB Reviewer: OIRA Desk Officer, Office of Management and Budget, Room 10235, New Executive Office Building, Washington, DC 20503, oira_submission@omb.eop.gov.

Robert Dahl,
Treasury PRA Clearance Officer.

[FR Doc. E9-18113 Filed 7-28-09; 8:45 am]

BILLING CODE 4830-01-P